ENVIRONMENTAL PROTECTION AGENCY

[EPA-HQ-OAR-2023-0450; 11379-01-OAR]

Notice of Public Meeting of the Interagency Steering Committee on Radiation Standards (ISCORS)

AGENCY: Environmental Protection Agency (EPA).

ACTION: Notice of public meeting.

SUMMARY: The Environmental Protection Agency (EPA) will host a meeting of the Interagency Steering Committee on Radiation Standards (ISCORS) on Tuesday, November 28, 2023, in Washington, DC.

DATES: The meeting will be held on Tuesday, November 28, 2023, from 1 p.m. to 4 p.m.

ADDRESSES: The ISCORS meeting will be held in Room 1153 at the USEPA William Jefferson Clinton East Building (WJC East), 1201 Constitution Avenue NW, Washington, DC. Attendees are required to present a photo ID such as a government agency photo identification badge or valid driver's license. The Department of Homeland Security has begun implementing REAL ID Act requirements for visitors who present state-issued driver's licenses as IDs at restricted Federal facilities. Driver's licenses from states and territories that do not comply with the REAL ID Act will not be accepted as identification. More details on these ID requirements can be found at https://www.epa.gov/aboutepa/visiting-epa-headquarters and clicking on the Building Access tab. Visitors and their belongings will be screened by EPA security guards. Visitors must sign the visitors log at the security desk and will be issued a visitor's badge by the security guards to gain access to the meeting.

FOR FURTHER INFORMATION CONTACT: Marisa D. Thornton, Radiation Protection Division, Office of Radiation and Indoor Air, Mail Code 6608T, U.S. Environmental Protection Agency, 1200 Pennsylvania Avenue NW, Washington, DC 20460; email: thornton.marisa@epa.gov, phone: 202-343-9237.

SUPPLEMENTARY INFORMATION: The purpose of ISCORS is to foster early resolution and coordination of regulatory issues associated with radiation standards. Member agencies include: EPA; the Nuclear Regulatory Commission; and Departments of Defense; Energy, Health and Human Services; Homeland Security; Transportation; and Labor's Occupational Safety and Health Administration. Observer agencies include: the Office of Science and Technology Policy, Office of Management and Budget, Defense Nuclear Facilities Safety Board, as well as state representatives from Connecticut and Washington.

ISCORS maintains several objectives: (1) facilitate a consensus on allowable levels of radiation risk to the public and workers; (2) promote consistent and scientifically sound risk assessment and risk management approaches in setting and implementing standards for occupational and public protection from ionizing radiation; (3) promote completeness and coherence of Federal standards for radiation protection; and (4) identify interagency radiation protection issues and coordinate their resolution. ISCORS meetings include presentations by Subcommittee Chairs and discussions of current radiation protection issues. Committee meetings normally involve pre-decisional intra-governmental discussions and, as such, are normally not open for observation by members of the public or media. This particular ISCORS meeting is open to all interested members of the public. Time will be reserved on the agenda for members of the public to ask questions and provide comments.

Pay parking is available for visitors at multiple garages around the Ronald Reagan building and Federal Triangle complex. Visitors can also ride the Metro to the Federal Triangle station (Blue, Orange or Silver Line). After exiting the turnstiles, go up both escalators to street level. Turn around and walk towards 12th Street NW turn right on 12th Street and continue walking until you get to Constitution Avenue. Then turn right onto Constitution Avenue and 1201 William Jefferson Clinton EAST is the first building on your right.

Visit the ISCORS website, www.epa.gov/iscors for more detailed information.

Please note: The final meeting agenda will be posted on the website shortly before the meeting.

Jonathan D. Edwards,
Director, Office of Radiation and Indoor Air.

[FR Doc. 2023-22736 Filed 10-13-23; 8:45 am]

BILLING CODE 6560-50-P